DEPARTMENT OF HEALTH AND HUMAN SERVICES

Centers for Disease Control and Prevention

[60 Day-10-0406]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to CDC/ATSDR Reports Clearance Officer, 1600 Clifton Road NE, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

State and Local Area Integrated Telephone Survey (SLAITS), (OMB No. 0920-0406, Expiration 04/30/2011)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. The State and Local Area Integrated Telephone Survey (SLAITS) mechanism has been conducted since 1997. This is a request to continue for three years the integrated and coordinated survey system designed to collect needed health and well-being data at the national, state, and local levels, in accordance with the 1995 initiative to increase the integration of surveys within DHHS. The survey is being revised to allow for increased burden that may be associated with some topical areas.

Using the large sampling frame of the ongoing National Immunization Survey (NIS) and Computer Assisted Telephone Interviewing (CATI), and when necessary independent samples, mail, and internet modes to support data collection activities, SLAITS has quickly collected and produced household and person-level data to monitor health-related areas. Questionnaire content is drawn from existing surveys within DHHS and other Federal agencies, or developed specifically to meet project sponsor needs. Examples of topical areas include infant, child, adolescent, parent, and family health, well-being, and knowledge, attitude, and behaviors; children with special health care needs (CSHCN); functioning; life course and social determinants of health; developmental delays and disabilities; acute and chronic conditions; immunizations; access to and use of health care; program participation; adoption; and changes in health insurance coverage and experiences.

Since its inception, data from the SLAITS mechanism have been used by researchers in the government, university, commercial, and private sectors; policymakers; and advocates to evaluate content and/or programs. SLAITS data continue to be heavily used by Federal and state Maternal and Child Health Bureau Directors to evaluate programs and service needs. Several SLAITS modules provided data for multiple Congressionally-mandated reports on healthcare disparities and quality; at least one report to Congress on health insurance coverage among children; and reports of the National Academy of Sciences. Within DHHS, the Office of the Assistant Secretary for Planning and Evaluation and the Administration for Children and Families used SLAITS to collect data for the first nationally representative survey of adoptive families across adoption types for children with and without special health care needs, and to assess their post-adoption service use and unmet needs. There is no cost to respondents other than their time to participate.

Estimated Annualized Burden Hours
Respondents | Number of respondents | Number of responses per respondent | Average burden per response (in hours) | Total burden hours
Household screening | 1,800,000 | 1 | 2/60 | 60,000
Household interview | 306,000 | 1 | 25/60 | 127,500
Pilot work, pre-testing, and planning activities | 12,300 | 1 | 35/60 | 7,175
Total |  |  |  | 194,675

Dated: September 10, 2010.
Maryam Daneshvar,
Reports Clearance Officer, Centers for Disease Control and Prevention.

[FR Doc. 2010-23093 Filed 9-15-10; 8:45 am]

BILLING CODE 4163-18-P